DEPARTMENT OF ENERGY

Federal Energy Regulatory Commission

[Docket No. EL18-6-000]

FirstEnergy Service Company; Notice of Waiver Request

Take notice that on October 6, 2017, pursuant to rule 207 of the Federal Energy Regulatory Commission's (Commission) Rules of Practices and Procedures 18 CFR 385.207, FirstEnergy Service Company (Service Company), submitted a request that the Commission waive specified portions of 18 CFR 35.39 and any other rules and regulations as may be necessary, to allow Service Company to establish a centralized RTO interface services group to provide services to certain franchised public utilities and market-regulated power sales affiliates within the FirstEnergy Corp. holding company system, as more fully explained in its waiver request.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on October 27, 2017.

Dated: October 10, 2017.
Kimberly D. Bose,
Secretary.

[FR Doc. 2017-22413 Filed 10-16-17; 8:45 am]

BILLING CODE 6717-01-P